DEPARTMENT OF JUSTICE

Antitrust Division

Notice Pursuant to the National Cooperative Research and Production Act of 1993—Medical Technology Enterprise Consortium

Notice is hereby given that, on April 5, 2023, pursuant to section 6(a) of the National Cooperative Research and Production Act of 1993, 15 U.S.C. 4301 et seq. (“the Act”), Medical Technology Enterprise Consortium (“MTEC”) has filed written notifications simultaneously with the Attorney General and the Federal Trade Commission disclosing changes in its membership. The notifications were filed for the purpose of extending the Act's provisions limiting the recovery of antitrust plaintiffs to actual damages under specified circumstances. Specifically, Advanced Regenerative Manufacturing Institute, Manchester, NH; Airion Health LLC, Los Angeles, CA; Amend Surgical, Inc., Alachua, FL; Arcascope, Inc., Arlington, VA; Biobeat Technologies Ltd., Petach Tikva, ISR; BioCircuit Technologies, Atlanta, GA; Bionet Sonar, Inc., Burlington, MA; Bionet Sonar, Inc., Burlington, MA; California Service Dog Academy, Visalia, CA; Capital Factory Properties LLC, Austin, TX; Circadian Positioning Systems, Inc., Newport, RI; Cohesys, Inc., Toronto Ontario, CAN; Coruna Medical LLC, Longmont, CO; CRO LLC, Missoula, MT; D'Angelo Technologies LLC, Beavercreek, OH; Dephy, Inc., Maynard, MA; DermiSense, Inc., Richmond, VA; DHR Health Institute for Research and Development, Edinburg, TX; Dog Tag Buddies, Billings, MT; Float Lab Technologies, Inc., Venice, CA; Florida State University, Tallahassee, FL; Foothold Labs, Inc., Olathe, KS; Ginkgo Bioworks, Inc., Boston, MA; Innovation Development Institute, Inc., Chicago, IL; IOTAI, Inc., Fremont, CA; Jana Care, Inc., Watertown, MA; Joint Research and Development, Inc., Stafford, VA; Luna Labs USA, Charlottesville, VA; Manzanita Pharmaceuticals, Inc., Woodside, CA; MCPC, Cleveland, OH; Medmarc Insurance Company, Chantilly, VA; Microbiotix, Inc., Worcester, MA; Milestone Scientific, Inc., Roseland, NJ; New Jersey Institute of Technology, Newark, NJ; NightHawk Biosciences, Inc., Morrisville, NC; North American Rescue LLC, Greer, SC; Northstar Emergency Management LLC, Pittsburgh, PA; Omnicure, Inc., Ladue, MO; Orbis Diagnostics Ltd., Auckland, New Zealand; Phiex Technologies, Inc., Boston, MA; Population Sleep LLC, Dallas, TX; PortaVision Medical LLC, Jefferson, LA; Purdue University, West Lafayette, IN; Reed Integration, Inc., Suffolk, VA; Regenerative Processing Plant LLC, Tampa, FL; Rivanna Medical, Inc., Charlottesville, VA; Ronawk, Inc., Olathe, KS; Scanogen, Inc., Windsor Mill, MD; Sonera Magnetics, Inc., Berkeley, CA; Sparta Software Corp., San Francisco, CA; Steadman Philippon Research Institute, Vail, CO; Stellarray, Inc., Austin, TX; SteriO3 LLC, Broomfield, CO; Stop Soldier Suicide, Durham, NC; The University of Queensland, St Lucia, QLD, AUSTRALIA; Theradaptive, Frederick, MD; UCHU Biosensors, Inc., Newark, NJ; University of Kansas Center for Research, Inc., Lawrence, KS; University of Kansas Medical Center Research Institute, Inc., Kansas City, KS; and University of North Carolina at Wilmington, Wilmington, NC, have been added as parties to this venture.

Also, 1Focus LLC, Clearwater, FL; Aeris LLC, Louisville, CO; AivoCode, Inc., La Jolla, CA, Altimmune, Inc., Gaithersburg, MD; Apogee Solutions, Inc., Chesapeake, VA; Appili Therapeutics, Inc., Halifax, CAN; Aptahem AB, Malmö, SWEEDEN; Armed Forces Services Corp. dba Magellan Federal, Arlington, VA; Avocado Labs, Inc., Dallas, TX; Azture, Inc., La Jolla, CA; BioGenerator, Saint Louis, MO; Charted Course LLC, Washington, DC; Clarkson University, Potsdam, NY; Cognitive Medical Systems, Inc., San Diego, CA; Domenix, Chantilly, VA; EchoNous, Inc., Redmond, WA; EdgeImpulse, Inc., San Jose, CA; Elephant Ventures LLC, New York, NY; Fast BioMedical, Indianapolis, IN; Fitbit LLC, San Francisco, CA; Frater GmbH, Naters, SWITZERLAND; General Dynamics Information Technology, Inc., Fairfax, VA; Geometric Data Analytics, Durham, NC; GlobalMedia Group LLC, Scottsdale, AZ; GRI Technology Solutions LLC, Durham, NC; Guidehouse, Inc., Falls Church, VA; HAI Solutions, Inc., Santa Barbara, CA; Heat Biologics, Morrisville, NC; Humanetics Corp., Edina, MN; Ideal Medical Technologies, Inc., Asheville, NC; Imeka Solutions, Inc., Sherbrooke Quebec, CANADA; Informa Business Intelligence, Inc., New York, NY; InterSystems Corp., Cambridge, MA; KaloCyte, Inc., Baltimore, MD; Kinsa, Inc., San Francisco, CA; Kreative Technologies LLC, Fairfax, VA; LAINE Technologies, Goose Creek, SC; Mainstream Engineering Corp., Rockledge, FL; MBio Diagnostics, Inc. dba LightDeck Diagnostics, Boulder, CO; Medevac Foundation International, Alexandria, VA; Mendon Group LLC, Pittsford, NY; MicroGEM US, Inc., Charlottesville, VA; Nanobionic Technologies Limited, Nicosia, CYPRUS; Nanovatif Materials Technologies, Ankara, TURKEY; NeuroFlow, Inc., Philadelphia, PA; NowSecure, Inc., Vienna, VA; NuPeak Therapeutics, St Louis, MO; Obsidio, Inc., Columbia, SC; OneBreath, Inc., Palo Alto, CA; Optum Public Sector Solutions, Inc., Falls Church, VA; Paladin Defense Services LLC, Nicholasville, KY; Palanquinx Pty, Ltd., Hornsby Heights, AUS; PCCI, Inc., Alexandria, VA; Peraton, Inc., Herndon, VA; Pixel and Timber LLC, Cincinnati, OH; Scaled Microbiomics LLC, Hagerstown, MD; Scandinavian Biopharma Holding AB, Solna, SWE; SISCAPA Assay Technologies, Inc., Washington, DC; Sonosa Medical, Inc., Baltimore, MD; Spectrohm, Inc., Tysons Corner, VA; Tactical Medical Solutions LLC, Anderson, SC; Technatomy Corp., Fairfax,VA; The Mullings Group, Delray Beach, FL; Tiber Creek Partners, Vienna, VA; TMG360 Media, Delray Beach, FL; TrainXR LLC, Las Vegas, NV; Trifecta Solutions, Reston, VA; UNandUP LLC, Saint Louis, MO; UtopiaCompression Corp., Los Angeles, CA; Washington University, St. Louis, MO; and Wound Exam Corp., Grand Forks, ND, have withdrawn as parties to this venture.

No other changes have been made in either the membership or planned activity of the group research project. Membership in this group research project remains open, and MTEC intends to file additional written notifications disclosing all changes in membership.

On May 9, 2014, MTEC filed its original notification pursuant to section 6(a) of the Act. The Department of Justice published a notice in the Federal Register pursuant to section 6(b) of the Act on June 9, 2014 (79 FR 32999).

The last notification was filed with the Department on January 12, 2023. A notice was published in the Federal Register pursuant to section 6(b) of the Act on March 27, 2023 (88 FR 18181).

Suzanne Morris,
Deputy Director, Civil Enforcement Operations, Antitrust Division.

[FR Doc. 2023-12503 Filed 6-9-23; 8:45 am]

BILLING CODE P